ENVIRONMENTAL PROTECTION AGENCY

40 CFR Part 63

[EPA-R06-OAR-2007-1205; FRL 9923-04-Region 6]

National Emission Standards for Hazardous Air Pollutants; Delegation of Authority to Albuquerque-Bernalillo County Air Quality Control Board

AGENCY: Environmental Protection Agency (EPA).

ACTION: Proposed rule.

SUMMARY: The Albuquerque-Bernalillo County Air Quality Control Board (ABCAQCB) submitted updated regulations for receiving delegation of the Environmental Protection Agency (EPA) authority for implementation and enforcement of New Source Performance Standards (NSPS) and National Emission Standards for Hazardous Air Pollutants (NESHAP) for all sources (both part 70 and non-part 70 sources). The delegation of authority under this action applies only to sources located in Bernalillo County, New Mexico, and does not extend to sources located in Indian Country. EPA is providing notice that it is updating the delegation of certain NSPS to ABCAQCB, and is taking direct final action to approve the delegation of certain NESHAPs to ABCAQCB.

DATES: Written comments on this proposed rule must be received on or before March 23, 2015.

ADDRESSES: Comments may be mailed to Mr. Rick Barrett, Air Permits Section (6PD-R), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Mr. Rick Barrett, (214) 665-7227; email: barrett.richard@epa.gov.

SUPPLEMENTARY INFORMATION: In the final rules section of this Federal Register, EPA is approving ABCAQCB's request for delegation of authority to implement and enforce certain NSPS and NESHAP for all sources (both part 70 and non-part 70 sources). ABCAQCB has adopted certain NSPS and NESHAP by reference into ABCAQCB's regulations. In addition, EPA is waiving its notification requirements so sources will only need to send notifications and reports to ABCAQCB.

The EPA is taking direct final action without prior proposal because EPA views this as a noncontroversial action and anticipates no adverse comments. A detailed rationale for this approval is set forth in the preamble to the direct final rule. If no relevant adverse comments are received in response to this action, no further activity is contemplated. If EPA receives relevant adverse comments, the direct final rule will be withdrawn, and all public comments received will be addressed in a subsequent final rule based on this proposed rule. EPA will not institute a second comment period. Any parties interested in commenting must do so at this time. If EPA receives relevant adverse comment on an amendment, paragraph, or section of the rule and if that provision may be severed from the remainder of the rule, EPA may adopt as final those provisions of the rule that are not the subject of an adverse comment.

For additional information, see the direct final rule which is located in the Rules section of this Federal Register.

Dated: January 28, 2015.
Samuel Coleman,
Acting Regional Administrator, Region 6.

[FR Doc. 2015-03483 Filed 2-18-15; 8:45 am]

BILLING CODE 6560-50-P